DEPARTMENT OF THE INTERIOR

Bureau of Land Management

[LLNVL02000.L14300000.ET0000; N-56170; MO# 4500061003]

Public Land Order No. 7825; Extension of Public Land Order No. 7060; Nevada

AGENCY: Bureau of Land Management, Interior.

ACTION: Public Land Order.

SUMMARY: This order extends the duration of the withdrawal created by Public Land Order No. 7060, issued effective June 3, 1994, for an additional 20-year period. The extension is necessary to continue protection of the Sacramento Pass Recreation Area in White Pine County, Nevada, which would otherwise expire on June 2, 2014.

DATES: Effective Date: June 3, 2014.

FOR FURTHER INFORMATION CONTACT: Elena Montenegro-Long, Realty Specialist, BLM Schell Field Office at 775-289-1800, or email: emontenegro@blm.gov. Persons who use a telecommunications device for the deaf (TDD) may call the Federal Information Relay Service (FIRS) at 1-800-877-8339 to reach the Bureau of Land Management (BLM) contact person during normal business hours. The FIRS is available 24 hours a day, 7 days a week, to leave a message or question with the above individual. You will receive a reply during normal business hours.

SUPPLEMENTARY INFORMATION: The purpose for which the withdrawal was first made requires this extension to continue the protection of the Sacramento Pass Recreation Area resource values and the capital investment in the area. The withdrawal extended by this order will now expire on June 2, 2034, unless as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 7060 (59 FR 28790 (1994)), which withdrew 464.93 acres of public land from settlement, sale, location or entry under the general land laws, including the United States mining laws (30 U.S.C. Ch. 2), but not from leasing under the mineral leasing laws, is hereby extended for an additional 20-year period until June 2, 2034.

Dated: May 29, 2014.
Janice M. Schneider,
Assistant Secretary—Land and Minerals Management.

[FR Doc. 2014-13441 Filed 6-6-14; 8:45 am]

BILLING CODE 4310-HC-P